DEPARTMENT OF ENERGY

Federal Energy Regulatory Commission

[Project No. 2183-035]

Grand River Dam Authority; Notice of ADR Teleconference Call

May 6, 2004.

Pursuant to Rule 601 of the Commission's Rules of Practice and Procedure, 18 CFR 385.601 (2001), the Dispute Resolution Service will convene a teleconference call on Monday, June 7, 2004, to discuss how the Alternative Dispute Resolution processes and procedures may assist in resolving disputes related to fish entrainment matters in the above-docketed proceeding. A representative from the Federal Energy Regulatory Commission, Office of Energy Projects will participate on this call. This teleconference call will utilize an 800 call-in phone number, beginning at 2 p.m. central time and 3 p.m. eastern time and will last approximately one hour. This call is in addition to a series of two prior teleconference calls (May 3, 2004 and May 5, 2004) which took place on the same subject but were inadvertently noticed under docket number P-1494-215.

Steven A. Shapiro and Jerrilynne Purdy, acting for the Dispute Resolution Service, will convene the teleconference call. They will be available to communicate in private prior to the teleconference call. If a party has any questions regarding the teleconference call and would be interested in participating in the call, please contact Mr. Shapiro at 202/502-8894 or Ms. Purdy at 202/502-8671 or e-mail Steven.Shapiro@ferc.gov or Jerrilynne.Purdy@ferc.gov. Parties may also communicate with Richard Miles, the Director of the Dispute Resolution Service, at 1-877-FERC-ADR (337-2237) or 202-502-8702 or by e-mail at Richard.Miles@ferc.gov.

Magalie R. Salas,
Secretary.

[FR Doc. E4-1085 Filed 5-12-04; 8:45 am]

BILLING CODE 6717-01-P